DEPARTMENT OF COMMERCE

International Trade Administration

[A-201-836, A-489-815, A-580-859]

Light-Walled Rectangular Pipe and Tube from Mexico, Turkey, and the Republic of Korea: Postponement of Preliminary Determination of Antidumping Duty Investigations

AGENCY: Import Administration, International Trade Administration, Department of Commerce.

EFFECTIVE DATE: November 14, 2007.

FOR FURTHER INFORMATION CONTACT: Robert James or David Cordell, AD/CVD Operations, Office 7, Import Administration, International Trade Administration, U.S. Department of Commerce, 14th Street and Constitution Avenue, NW, Washington, DC 20230; telephone: (202) 482-0649 and (202) 482-0408, respectively.

SUPPLEMENTARY INFORMATION:

Postponement of Preliminary Determination

On July 17, 2007, the Department of Commerce (the Department) initiated the antidumping duty investigations of light-walled rectangular pipe and tube from Mexico, Turkey, and the Republic of Korea. See Initiation of Antidumping Duty Investigations: Light-Walled Rectangular Pipe and Tube from Republic of Korea, Mexico, Turkey, and the People's Republic of China, 72 FR 40274 (July 24, 2007). The notice of initiation stated that the Department would issue its preliminary determinations for these investigations no later than 140 days after the date of issuance of the initiation (i.e., December 4, 2007) in accordance with section 733(b)(1)(A) of the Tariff Act of 1930, as amended (the Act).

On October 19, 2007, the petitioners, Allied Tube and Conduit, Atlas Tube, Bull Moose Tube Company, California Steel and Tube, EXLTUBE,¹ Hannibal Industries, Leavitt Tube Company, Maruichi American Corporation, Searing Industries, Southland Tube, Vest Inc., Welded Tube, and Western Tube and Conduit (the petitioners) made a timely request pursuant to 19 CFR 351.205(e) for a postponement of the preliminary determination with respect to Mexico, Turkey, and the Republic of Korea. The petitioners requested postponement of the preliminary determinations with respect to these three countries because the investigations are extraordinarily complicated given the number of concurrent investigations of the subject merchandise, the complexity of the transactions to be investigated, and the novelty of the issues presented including targeted dumping and the offset of positive margins by negative margins.

¹ EXLTUBE is not a petitioner with respect to Mexico.

For the reasons identified by the petitioner and because there are no compelling reasons to deny the request, the Department is postponing the deadline for the preliminary determinations with respect to Mexico, Turkey, and the Republic of Korea pursuant to section 733(c)(1)(A) of the Act by 50 days to January 23, 2008. The deadline for the final determination will continue to be 75 days after the date of the preliminary determination, unless extended.

This notice is issued and published pursuant to section 733(c)(2) of the Act and 19 CFR 351.205(f)(1).

Dated: November 6, 2007.
Stephen Claeys,
Acting Assistant Secretary for Import Administration.

[FR Doc. E7-22274 Filed 11-13-07; 8:45 am]

BILLING CODE 3510-DS-S